ENVIRONMENTAL PROTECTION AGENCY

[ER-FRL-9003-4]

Environmental Impacts Statements; Notice of Availability

Responsible Agency: Office of Federal Activities, General Information (202) 564-7146 or http://www.epa.gov/compliance/nepa/.

Weekly receipt of Environmental Impact Statements

Filed 05/29/2012 Through 06/01/2012

Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: EPA is seeking agencies to participate in its e-NEPA electronic EIS submission pilot. Participating agencies can fulfill all requirements for EIS filing, eliminating the need to submit paper copies to EPA Headquarters, by filing documents online and providing feedback on the process. To participate in the pilot, register at: https://cdx.epa.gov.

EIS No. 20120172, Final EIS, BLM, WV, East Lynn Lake Coal Lease Project, To Offer Federal Coal in the Coalburg/Winifrede Seam for Competitive Leasing, Wayne County, WV, Review Period Ends: 07/09/2012, Contact: Chris Carusona 414-297-4463.

EIS No. 20120173, Draft EIS, FHWA, TX, South Padre Island Second Access Project, State Highway 100, Across the Laguna Madre, To Park Road 100, Construction of a New Location Highway Facility, USACE Section 10 and 404 Permits, Cameron County, TX, Comment Period Ends: 08/15/2012, Contact: Gregory Punske 512-536-5960.

EIS No. 20120174, Final EIS, FHWA, MD, US 50 Crossing Study, Transportation Improvement from MD-611 to MD 378; and 3rd Street to Somerset Street, Funding, USACE Section 10 and 404 Permits, Worcester County, MD, Review Period Ends: 07/09/2012, Contact: Nicholas Blendy 302-734-2966.

EIS No. 20120175, Draft EIS, USFWS, DE, Prime Hook National Wildlife Refuge, Development of a Comprehensive Conservation Plan, Implementation, Sussex County, DE, Comment Period Ends: 08/06/2012, Contact: Thomas Bonetti 413-253-8307.

EIS No. 20120176, Second Final Supplement, USN, 00, Surveillance Towed Array Sensor System Low Frequency Active (SURTASS LFA) Sonar Systems, Updated and Additional Information on Employment of Four SURTASS LFA Sonar Systems for Routine Training, Testing, and Military Operation, Implementation, Review Period Ends: 07/09/2012, Contact: CDR R.A. Dempsey 703-695-8266.

EIS No. 20120177, Draft EIS, USAF, 00, Divert Activities and Exercises, Guam Commonwealth of the Northern Mariana Islands (CNMI), To Improve existing Airport(s) and Associated Infrastructure in the Mariana Islands and To Achieve Divert Capabilities in Western Pacific, Mariana Islands Region, Comment Period Ends: 07/23/2012, Contact: Jay Nash 703-693-4001.

EIS No. 20120178, Final EIS, APHIS, 00, Glyphosate-Tolerant H7-1 Sugar Beet, Request for Nonregulated Status, United States, Review Period Ends: 07/09/2012, Contact: Rebecca Stankiewicz Gabel 301-851-3927.

EIS No. 20120179, Final EIS, DOE, CA, Energia Sierra Juarez U.S. Transmission Line Project, Construction, Operation, Maintenance, and Connection of Either 230-Kilovolt or a 500-Kilovolt Electric Transmission Line Crossing U.S.-Mexico Border, Presidential Permit Approval, San Diego County, CA, Review Period Ends: 07/09/2012, Contact: Brian Mills 202-586-8267.

EIS No. 20120180, Final EIS, USN, HI, Basing of MV-22 and H-1 Aircraft in Support of III Marine Expeditionary Force (MEF) Elements, Construction and Renovation of Facilities to Accommodate and Maintain the Squadrons, HI, Review Period Ends: 07/16/2012, Contact: 808-472-1196.

EIS No. 20120181, Final EIS, WAPA, AZ, Grapevine Canyon Wind Project, Proposal to Develop a Wind Energy Generating Facility up to 500 Megawatts; (2) a 345 Kilovolt (kV) Electrical Transmission Tie-Line; and (3) a 345-kV Electrical Interconnection Switchyard, Coconino County, AZ, Review Period Ends: 07/09/2012, Contact: Matt Blevins 800-336-7288.

Amended Notices

EIS No. 20120091, Draft, BLM, AK, National Petroleum Reserve—Alaska (NPR-A) Integrated Activity Plan, To Determine Appropriate Management BLM—Administrated Lands in the NPR-A, North Slope Borough, AK, Comment Period Ends: 06/15/2012, Contact: Jim Ducker 907-271-3130. Revision to FR Notice Published 04/20/2012; Comment Period Extended from 06/01/2012 to 06/15/2012.

EIS No. 20120168, Draft EIS, USFS, 00, Lake Tahoe Basin Management Unit, Land and Resource Managment Plan, Updated Forest Plan, Implementation, Alpine, El Dorado, Placer Counties, CA and Douglas and Washoe Counties, NV, Comment Period Ends: 08/29/2012, Contact: Randy Moore 707-562-9000. Revision to FR Notice Published 06/01/2012; Change State from AZ to NV and Change Contact Phone Number to 707-562-9000.

Dated: June 5, 2012.
Cliff Rader,
Director, NEPA Compliance Division, Office of Federal Activities.

[FR Doc. 2012-13956 Filed 6-7-12; 8:45 am]

BILLING CODE 6560-50-P